DEPARTMENT OF LABOR

Employment and Training Administration

[TA-W-82,288; TA-W-82,288A; TA-W-82,288B; TA-W-82,288C]

Gamesa Technology Corporation, Including On-Site Leased Workers From A & A Wind Pros Inc., ABB Inc., Airway Services Inc., Amerisafe Consulting & Safety Services, Apex Alternative Access, Avanti Wind Systems, Inc., Broadwind Services LLC, Electric Power Systems International, Evolution Energy Group LLC, Global Energy Services USA Inc., Ingeteam Inc., Kelly Services, Inc., LM Wind Power Blades (ND) Inc., Matrix Service Industrial Contract, Mistras Group, Onion ICS LLC, Power Climber Wind, Rope Partner, Inc., Run Energy LP, SERENA USA, Inc., Spherion “The Mergis Group,” System One UpWind Solutions Inc., and Wind Solutions LLC Trevose, Pennsylvania; Gamesa Technology Corporation, Fairless Hills, Pennsylvania; Gamesa Technology Corporation, Including On-Site Leased Workers From Work Link Ebensburg, Pennsylvania; Gamesa Technology Corporation, Bristol, Pennsylvania; Notice of Negative Determination on Reconsideration

On March 8, 2013, the Department of Labor issued a negative determination regarding eligibility to apply for Trade Adjustment Assistance (TAA) applicable to workers and former workers of Gamesa Technology Corporation, Trevose, Pennsylvania, Fairless Hills, Pennsylvania, Ebensburg, Pennsylvania, and Bristol, Pennsylvania (hereafter collectively referred to as “Gamesa” or “the subject firm”).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the Department's finding of no shift in production of like or directly competitive articles to a foreign country, no acquisition of production of like or directly competitive articles from a foreign country, and no increased imports of like or directly competitive articles during the relevant period, as defined in 29 CFR part 90.

In the request for reconsideration, the state workforce official alleged that the subject firm has shifted abroad the production or articles like or directly competitive with those produced by the subject firm and urged the Department to consider information in the 201302015 business plan on the Gamesa Web site, which reflected increased reliance on a facility on Spain and “increased blade outsourcing of 65%.” The attachment to the request included a letter which alleged imports from China and Spain and the effect of lost bids due to the uncertainty of the Production Tax Credit extension.

Information obtained during the reconsideration investigation confirmed that the subject firm did not shift, and does not plan to shift, production of like or directly competitive articles to a foreign country or acquire such production from a foreign country, and that the subject firm did not import, and has no plans to import, articles like or directly competitive with those produced by the subject firm.

Should the subject firm shift, or decide to shift, production of like or directly competitive articles to a foreign country, acquire the production of like or directly competitive articles from a foreign country, or begin to import like or directly competitive articles, those facts would be relevant to the investigation of a new petition, not the immediate investigation.

For the reasons stated above, the Department determines that 29 CFR 90.18(c) has not been met.

Conclusion

After careful review, I determine that the requirements of Section 222 of the Act, 19 U.S.C. 2272, have not been met and, therefore, deny the petition for group eligibility of Gamesa Technology Corporation, including on-site leased workers from A & A Wind Pros Inc., ABB Inc., Airway Services Inc., Amerisafe Consulting & Safety Services, Apex Alternative Access, Avanti Wind Systems, Inc., Broadwind Services LLC, Electric Power Systems International, Evolution Energy Group LLC, Global Energy Services USA Inc., Ingeteam Inc., Kelly Services, Inc., LM Wind Power Blades (ND Inc., Matrix Service Industrial Contract, Mistras Group Inc., Orion ICS LLC, Power Climber Wind, Rope Partner, Inc., Run Energy LP, SERENA USA, Inc., Spherion “The Mergis Group,” System One, UpWind Solutions Inc., Wind Solutions LLC, and Wind Turbine Solutions LLC, Trevose, Pennsylvania (TA-W-82,288), Gamesa Technology Corporation, Fairless Hills, Pennsylvania (TA-W-82,288A), Gamesa Technology Corporation, including on-site leased workers from Work Link, Ebensburg, Pennsylvania (TA-W-82,288B), and Gamesa Technology Corporation, Bristol, Pennsylvania (TA-W-82,288C), to apply for adjustment assistance, in accordance with Section 223 of the Act, 19 U.S.C. 2273.

Signed in Washington, DC on this 8th day of August, 2013.
Del Min Amy Chen,
Certifying Officer, Office of Trade Adjustment Assistance.

[FR Doc. 2013-20808 Filed 8-26-13; 8:45 am]

BILLING CODE 4510-FN-P